DEPARTMENT OF THE INTERIOR

Bureau of Indian Affairs

Land Acquisitions; Elk Valley Rancheria, California

AGENCY: Bureau of Indian Affairs, Interior.

ACTION: Notice of Final Agency Determination to take land into trust under 25 CFR Part 151.

SUMMARY: The Assistant Secretary—Indian Affairs made a final agency determination to acquire approximately 203.5 acres of land into trust for the Elk Valley Rancheria of California on January 4, 2008. This notice is published in the exercise of authority delegated by the Secretary of the Interior to the Assistant Secretary—Indian Affairs by 209 Departmental Manual 8.1.

FOR FURTHER INFORMATION CONTACT: George Skibine, Office of Indian Gaming, MS-3657 MIB, 1849 C Street, NW., Washington, DC 20240; Telephone (202) 219-4066.

SUPPLEMENTARY INFORMATION: This notice is published to comply with the requirement of 25 CFR 151.12(b) that notice be given to the public of the Secretary's decision to acquire land in trust at least 30 days prior to signatory acceptance of the land into trust. The purpose of the 30-day waiting period in 25 CFR 151.12(b) is to afford interested parties the opportunity to seek judicial review of final administrative decisions to take land in trust for Indian tribes and individual Indians before transfer of title to the property occurs. On January 4, 2008, the Assistant Secretary—Indian Affairs decided to accept approximately 203.5 acres of land into trust for the Elk Valley Rancheria of California under the authority of the Indian Reorganization Act of 1934, 25 U.S.C. 465. The 203.5 acre parcel is located in Del Norte County, California. The parcel will be used for construction and operation of a class II and class III gaming facility. The real property situated in the County of Del Norte, State of California, is described as follows:

Parcel One

That portion of Section 35, Township 16 North, Range 1 West, Humboldt Meridian, described as follows:

PARCEL 2 as shown on the Parcel Map filed in the office of the County Recorder of Del Norte County, California, on December 28, 1979, in Book 4 of Parcel Maps, page 75.

EXCEPT therefrom those portions thereof conveyed to the County of Del Norte, by deeds recorded October 18,1979, in Book 237, Official Records, page 609, and May 19, 1986, in Book 310, Official Records, page 444.

Parcel Two

A 30-foot wide easement for road and utility purposes lying 30 feet westerly of and adjacent to the following described line:

BEGINNING at a point on the west line of Parcel 3 of the land conveyed to Del Norte County by OWEN W. BAUER by deed dated August 31, 1979, said point being North 185.0 feet from the most southwesterly corner of said Parcel 3, and running; thence northerly along westerly lines of Parcels 3 and 2 of the land conveyed to the County of Del Norte by OWEN W. BAUER to the south line of Parcel 1 as said parcel is shown on the parcel map filed for OWEN W. BAUER on December 28, 1979 in Book 4 of Parcel Maps, pages 75 through 78, in the office of the County Recorder of Del Norte County, California.

Parcel Three

An easement for water removal purposes on the following described parcel of land.

BEGINNING at a point S 32 degrees 00 minutes 20 seconds W (equals S 30 degrees 36 minutes 09 seconds W true meridian) a distance of 1607.35 feet from the northeast corner of section 34, Township 16 North, Range 1 West, Humboldt Meridian, and running:

(1) Thence South 60 degrees East, 45.21 feet;

(2) Thence South 30 degrees West, 70.00 feet;

(3) Thence North 60 degrees West, 150.00 feet;

(4) Thence North 30 degrees East, 70.00 feet;

(5) Thence South 60 degrees East, 104.79 feet to the point of beginning.

The bearings and distances contained in this easement description are based upon the California Coordinate System, Zone 1, multiply distances by 0.9999742 to obtain ground level distances.

Parcel Four

An easement for water pipe lines, said easement to be 20.0 feet in width, lying 10.0 feet on each side of the following described centerline:

BEGINNING at a point S 32 degrees 00 minutes 20 seconds W (equals S 30 degrees 36 minutes 09 seconds W true meridian) a distance of 1607.35 feet from the northeast corner of Section 34, Township 16 North, Range 1 West, Humboldt Meridian, and running:

(1) Thence South 76 degrees 39 minutes 35 seconds East, 153.58 feet;

(2) Thence South 76 degrees 46 minutes 42 seconds East, 206.05 feet;

(3) Thence South 72 degrees 25 minutes 39 seconds East, 153.79 feet;

(4) Thence South 81 degrees 07 minutes 49 seconds East, 162.47 feet;

(5) Thence North 84 degrees 03 minutes 26 seconds East, 158.59 feet;

(6) Thence North 36 degrees 54 minutes 36 seconds East, 75 feet, more or less, to Parcel “2” as said parcel is shown on the parcel map filed for OWEN W. BAUER on December 28, 1979 in Book 4 of Parcel Maps, pages 75 through 78 inclusive, in the office of the County Recorder of Del Norte County, California. The sidelines of this easement shall coincide with the boundary of the land described in Easement “B” hereinabove described on the west and Parcel 2 of said Bauer map on the east.

The bearings and distances contained in this easement description are based upon the California Coordinate System, Zone 1, multiply distances by 0.9999742 to obtain ground level distances. APN: 115-02-28

Dated: February 1, 2008.
Carl J. Artman,
Assistant Secretary—Indian Affairs.

[FR Doc. E8-2501 Filed 2-8-08; 8:45 am]

BILLING CODE 4310-4N-P